Proclamation 9414 of March 31, 2016

National Sexual Assault Awareness and Prevention Month, 2016

By the President of the United States of America

A Proclamation

At our country's core is a basic belief in the inherent dignity of every person. Too many women and men of all ages suffer the outrage that is sexual assault, and too often, this crime is not condemned as loudly as it should be. Together, we must stand up and speak out to change the culture that questions the actions of victims, rather than those of their attackers. As their relatives, friends, neighbors, and fellow Americans, it's on us to support victims and survivors by providing them with the care they need, bringing perpetrators to justice, and ensuring our institutions are held responsible and do not look the other way. This month, we reaffirm our commitment to shift the attitudes that allow sexual assault to go unanswered and unpunished, and we redouble our efforts to prevent this human rights violation from happening in the first place.

Preventing sexual assault begins with everyone getting involved in promoting healthy relationships and encouraging respect for the equality of others. For decades, Vice President Joe Biden has brought unmatched passion to this cause, working to pass the Violence Against Women Act in the Senate more than two decades ago, and continuing to fight today to transform the way we think and talk about sexual assault. In 2014, we launched the “It's On Us” campaign—an initiative that has worked with over 300 college campuses and engaged hundreds of thousands of people around our country who have taken a pledge to stand up and speak out to express moral outrage for this intolerable crime. We launched the White House Task Force to Protect Students from Sexual Assault that year as well, which continues to offer recommendations for how we can all contribute to a society that adequately prevents and responds to sexual assault.

My Administration is taking action to eliminate sexual assault in every corner of our country. This year, we announced new grants available for the National Sexual Assault Kit Initiative, a nationwide, community-based effort to end the backlog of untested rape kits—instrumental tools used to collect evidence, prosecute perpetrators, and bring closure to victims in the aftermath of an assault. These funds are supporting efforts to ensure victims are notified of the testing, connected to support services, and given the option of participating in the criminal justice process. Additionally, we have offered new tools and resources to help States and communities take advantage of the best available measures to prevent sexual violence. The Department of Justice issued new guidance for law enforcement on identifying and preventing gender bias in response to sexual assault and domestic violence. And I have directed military leadership to prioritize this issue and equip our men and women in uniform with the knowledge and tools necessary to combat sexual violence. From our military to our schools, and in law enforcement agencies in communities across America, we will keep working to address sexual violence and root it out wherever it exists.

Anyone can be a leader in the fight to prevent and end sexual assault. As employers, educators, parents, and friends, all Americans have an obligation to uphold the basic principle that every individual should be free from violence and fear. During National Sexual Assault Awareness and Prevention Month, we recommit to embracing each of our individual responsibilities to keep our communities safe from this crime and to stand with survivors and victims of sexual assault.

NOW, THEREFORE, I, BARACK OBAMA, President of the United States of America, by virtue of the authority vested in me by the Constitution and the laws of the United States, do hereby proclaim April 2016 as National Sexual Assault Awareness and Prevention Month. I urge all Americans to support survivors of sexual assault and work together to prevent these crimes in their communities.

IN WITNESS WHEREOF, I have hereunto set my hand this thirty-first day of March, in the year of our Lord two thousand sixteen, and of the Independence of the United States of America the two hundred and fortieth.

[FR Doc. 2016-07960

Filed 4-4-16; 11:15 am]

Billing code 3295-F6-P